DEPARTMENT OF ENERGY

Federal Energy Regulatory Commission

[Docket No. CP16-21-000; Docket No. PF14-22-000]

Tennessee Gas Pipeline Company, L.L.C; Notice of Application

Take notice that on November 20, 2015, Tennessee Gas Pipeline Company, L.L.C. (Tennessee), 1001 Louisiana Street, Houston, Texas 77002, filed an application pursuant to sections 7(b) and 7(c) of the Natural Gas Act (NGA) and the Federal Energy Regulatory Commission (Commission) seeking authority to (i) construct, install, modify, and operate certain pipeline and compression facilities to be located in Pennsylvania, New York, Massachusetts, New Hampshire, and Connecticut, and (ii) to abandon certain facilities, as part of the Northeast Energy Direct Project (NED Project), as described in more detail below. Tennessee proposes to provide up to 1.3 billion cubic feet per day (Bcf/d) of firm capacity at a cost of approximately $5.2 billion dollars, all as more fully set forth in the application. The filing is available for review at the Commission in the Public Reference Room or may be viewed on the Commission's Web site at http://www.ferc.gov using the “eLibrary” link. Enter the docket number excluding the last three digits in the docket number field to access the document. There is an “eSubscription” link on the Web site that enables subscribers to receive email notification when a document is added to a subscribed docket(s). For assistance, please contact FERC Online Support at FERCOnlineSupport@ferc.gov or toll free at (866) 208-3676, or for TTY, contact (202) 502-8659.

Specifically, the NED Project includes two components: (1) The Supply Path Component, which is comprised of facilities from Troy, Pennsylvania, to Wright, New York (Supply Path Component), and (2) the Market Path Component, which is comprised of facilities from Wright, New York, to Dracut, Massachusetts (Market Path Component). The Supply Path Component facilities include: (i) Approximately 174 miles of pipeline facilities in Pennsylvania and New York of which approximately 41 miles will be looped, (ii) three new compressor stations totaling 153,500 horsepower (hp), (iii) modifications to one existing compressor station, (iv) two new meter stations, and (v) various appurtenant facilities. The Market Path Component facilities include: (i) Approximately 188 miles of mainline pipeline facilities in New York, Massachusetts, and New Hampshire, (ii) approximately 58 miles of lateral and pipeline looping, including a total of five delivery laterals in Massachusetts and New Hampshire, one pipeline loop in Connecticut, (iii) six new compressor stations totaling 207,600 hp, (iv) construction of 13 new meter stations, (v) modification of 14 existing meter stations, and (vi) various appurtenant facilities.

Any questions regarding the proposed project should be directed to Jacquelyne M. Rocan, Assistant General Counsel, at Tennessee Gas Pipeline Company, L.L.C., 1001 Louisiana Street, Houston, Texas 77002 or at (713) 420-4544 (phone), or (713) 420-1601 (facsimile), or email: Jacquelyne_Rocan@kindermorgan.com, or Shannon M. Miller, Regulatory Affairs, Tennessee Gas Pipeline Company, L.L.C., 1001 Louisiana Street, Houston, Texas 77002, or at (713) 420-4038 (phone), or (713) 420-1605 (facsimile), or email: shannon_miller@kindermorgan.com.

On October 2, 2014, Commission staff granted Tennessee's request to utilize the National Environmental Policy Act (NEPA) Pre-Filing Process and assigned Docket No. PF14-22-000 to staff activities involving the project. Now, as of the filing of this application on November 20, 2015, the NEPA Pre-Filing Process for this project has ended. From this time forward, this proceeding will be conducted in Docket No. CP16-21-000 as noted in the caption of this Notice.

Pursuant to section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

Comment Date: January 6, 2016.

Dated: December 7, 2015.
Nathaniel J. Davis, Sr.,
Deputy Secretary.

[FR Doc. 2015-31213 Filed 12-10-15; 8:45 am]

BILLING CODE 6717-01-P